DEPARTMENT OF THE INTERIOR

Bureau of Land Management

[NM 115588 LLNMF01000 L14300000.ES0000]

Recreation and Public Purpose (R&PP) Classification; San Juan County, NM

AGENCY: Bureau of Land Management, Interior.

ACTION: Notice of realty action.

SUMMARY: The following described public land is determined suitable for classification for leasing and patenting to the San Juan County, Aztec, New Mexico, under the provisions of the R&PP Act, as amended (44 Stat. 741, as amended; 43 U.S.C. 869 et seq.). San Juan County proposes to use the land for a regional fire station.

New Mexico Principal Meridian

T. 29 N., R. 12 W.,

Sec. 2: N½ NW¼SW1/42;

Containing 20 acres, more or less.

DATES: On or before 45 days from publication date, interested parties may submit comments regarding the proposed leasing and conveyance, or classification of the lands to the Bureau of Land Management at the following address. Any adverse comments will be reviewed by the Bureau of Land Management (BLM), Farmington Field Manager, 1235 La Plata Highway, Suite A, Farmington, NM 87401, who may sustain, vacate, or modify this realty action. In the absence of any adverse comments, this realty action becomes the final determination of the Department of the Interior and is effective 60 days from publication date.

FOR FURTHER INFORMATION CONTACT: Albert Gonzales, Realty Specialist, Bureau of Land Management, Farmington Field Office, 1235 La Plata Highway, Suite A, Farmington, NM 87401, at 505-599-6334.

SUPPLEMENTARY INFORMATION: Publication of this notice segregates the public land described above from all other forms of appropriation under the public land laws, including the general mining laws, except for leasing and conveyance under the R&PP Act and leasing under the mineral leasing laws for a period of 2 years from date of this publication in the Federal Register. The segregation affect will terminate upon issuance of the lease and patent to San Juan County, or 2 years from the date of this publication, whichever occurs first.

The lease, when issued, will be subject to the following terms:

1. Provisions of the R&PP Act and to all applicable regulations of the Secretary of the Interior.

2. Provisions of the Resource Conservation and Recovery Act of 197 as amended, 42 U.S.C. 6901-6987 and the Comprehensive Environmental Response, Compensation and Liability Act of 1980 as amended, 42 U.S.C. 9601 and all applicable regulations.

3. Provisions of Title VI of the Civil Rights Act of 1964.

4. Provisions that the lease be operated in compliance with the approved Development Plan.

The patent, when issued, will be subject to the following terms:

1. Reservation to the United States of a right-of-way for ditches and canals in accordance with 43 U.S.C. 945.

2. Reservation to the United States of all minerals.

3. All valid existing rights, e.g., rights-of-way and leases of record.

4. Provisions that if the patentee or its successor attempts to transfer title to or control over the land to another or the land is devoted to a use other than that for which the land was conveyed, without the consent of the Secretary of the Interior or his delegate, or prohibits or restricts, directly or indirectly, or permits it agents, employees, contractors, or subcontractors, including without limitation, lessees, sublessees and permittees), to prohibit or restrict, directly or indirectly, the use of any part of the patented lands or any of the facilities whereon by any person because of such person's race, creed, color, or national origin, title shall revert to the United States.

The lands are not needed for Federal purposes. Leasing and later patenting is consistent with current Bureau of Land Management policies and land use planning. The estimated intended time of lease issuance is May 15, 2009, with the patent being issued upon substantial development taking place. The proposal serves the public interest since it would provide a regional fire station.

(Authority: 43 CFR 2741.5)

Joel Farrell,
Assistant Field Manager, Land and Resources, Farmington Field Office.

[FR Doc. E9-6570 Filed 3-24-09; 8:45 am]

BILLING CODE 4310-VB-P